INTERNATIONAL TRADE COMMISSION

[Inv. No. 337-TA-540]

Certain Automotive Grilles; Notice of Commission Decision Not To Review an Initial Determination Terminating the Investigation Based on the Withdrawal of the Complaint

AGENCY: U.S. International Trade Commission.

ACTION: Notice.

SUMMARY: Notice is hereby given that the U.S. International Trade Commission has determined not to review an initial determination (“ID”) issued by the presiding administrative law judge (“ALJ”) in the above-captioned investigation terminating the investigation based on the withdrawal of the complaint.

FOR FURTHER INFORMATION CONTACT: Michael Diehl, Esq., Office of the General Counsel, U.S. International Trade Commission, 500 E Street, SW., Washington, DC 20436, telephone (202) 205-3095. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint (as subsequently amended) that was filed by Ford Global Technologies, LLC (“Ford”). 70 FR 30973 (May 31, 2005). The amended complaint alleged a violation of section 337 of the Tariff Act of 1930 with respect to the importation into the United States, the sale for importation and/or sale within the United States after importation, of certain automotive grilles by reason of infringement of U.S. Design Patent No. 498,187. The notice of investigation named two respondents: Keystone Automotive Industries, Inc. (“Keystone”) of Pomona, California; and Y.C.C. Parts Manufacturing Co., Ltd. (“Y.C.C.”) of Taiwan.

On May 24, 2005, Ford filed a letter with the Commission Secretary seeking to withdraw the amended complaint. Ford indicated that it sought a withdrawal in order to investigate two alleged items of prior art brought to its attention by one of the respondents.

On May 31, 2005, Keystone filed a response indicating that it had supplied the alleged prior art references to Ford, and that it did not oppose the motion to terminate the investigation. On June 3, 2005, the Investigative Attorney filed a response in support of the motion. Y.C.C. did not file a response. On July 14, 2005, the presiding ALJ issued the subject ID, granting the motion for termination. No petitions for review of the ID were filed.

The authority for the Commission's determination is contained in section 337 of the Tariff Act of 1930, as amended (19 U.S.C. 1337), and in section 210.42(h)(3) of the Commission's Rules of Practice and Procedure (19 CFR 210.42(h)(3)).

Issued: August 9, 2005.
By order of the Commission.
Marilyn R. Abbott,
Secretary to the Commission.

[FR Doc. 05-16057 Filed 8-11-05; 8:45 am]

BILLING CODE 7020-02-U